SECURITIES AND EXCHANGE COMMISSION

Sunshine Act Meeting

Federal Register Citation of Previous Announcement: [68 FR 1492, January 10, 2003].

Status: Open Meeting.

Place: 450 Fifth Street, NW., Washington, DC.

Date and Time of Previously Announced Meeting: Wednesday, January 15, 2003.

Change in the Meeting: Deletion of Item.

The following item will not be considered during the Open Meeting scheduled for Wednesday, January 15, 2003, but will be considered at a later meeting to be announced: Regulation AC (Analyst Certification) Commissioner Goldschmid, as duty officer, determined that no earlier notice thereof was possible.

At times, changes in Commission priorities require alterations in the scheduling of meeting items. For further information and to ascertain what, if any, matters have been added, deleted or postponed, please contact:

The Office of the Secretary at (202) 942-7070.

Dated: January 14, 2003.
Jonathan G. Katz,
Secretary.

[FR Doc. 03-1105 Filed 1-14-03; 11:30 am]

BILLING CODE 8010-01-P